DEPARTMENT OF ENERGY

Federal Energy Regulatory Commission

Sunshine Act Meetings

The following notice of meeting is published pursuant to section 3(a) of the government in the Sunshine Act (Pub. L. No. 94-409), 5 U.S.C. 552b:

AGENCY HOLDING MEETING: Federal Energy Regulatory Commission.

DATE AND TIME: February 21, 2013, 10:00 a.m.

PLACE: Room 2C, 888 First Street NE., Washington, DC 20426.

STATUS: Open.

MATTERS TO BE CONSIDERED: Agenda.

* NOTE—Items listed on the agenda may be deleted without further notice.

CONTACT PERSON FOR MORE INFORMATION: Kimberly D. Bose, Secretary, Telephone (202) 502-8400.

For a recorded message listing items struck from or added to the meeting, call (202) 502-8627.

This is a list of matters to be considered by the Commission. It does not include a listing of all documents relevant to the items on the agenda. All public documents, however, may be viewed on line at the Commission's Web site at http://www.ferc.gov using the eLibrary link, or may be examined in the Commission's Public Reference Room.

991st—Meeting, Regular Meeting, February 21, 2013, 10:00 a.m.
Item No. | Docket No. | Company
Administrative
A-1 | AD02-1-000 | Agency Business Matters.
A-2 | AD02-7-000 | Customer Matters, Reliability, Security and Market Operations.
A-3 | RM10-12-000 | Electricity Market Transparency Provisions of Section 220 of the Federal Power Act.
Electric
E-1 | ER13-85-000 | Maine Public Service Company.
E-2 | ER13-83-000 | Duke Energy Carolinas LLC and Carolina Power and Light Company.
| ER13-88-000 | Alcoa Power Generating, Inc.
E-3 | RM05-5-020 | Standards for Business Practices and Communication Protocols for Public Utilities.
E-4 | RM12-12-000 | Regional Reliability Standard PRC-006-NPCC-1-Automatic Underfrequency Load Shedding.
E-5 | OMITTED.
E-6 | EL12-106-000 | J. William Foley Incorporated v. United Illuminating Company.
E-7 | OMITTED.
E-8 | ER12-959-001 | Southwest Power Pool, Inc.
E-9 | EL13-15-000 | Southwestern Public Service Company v. Southwest Power Pool, Inc.
E-10 | EL13-35-000 | Southwestern Public Service Company v. Southwest Power Pool, Inc.
Gas
G-1 | RP04-274-000 | Kern River Gas Transmission Company.
| RP04-274-023
| RP04-274-026
| RP04-274-027
| RP04-274-029
| RP10-1406-002
| RP11-2356-001
| RP11-2356-002
| RP11-1499-001
| RP13-199-000
Hydro
H-1 | P-11175-024 | Crown Hydro, LLC.
H-2 | P-5730-018 | River Bounty, Inc.
H-3 | P-2079-072 | Placer County Water Agency.
H-4 | P-12646-013 | City of Broken Bow, Oklahoma.
Certificates
C-1 | CP12-464-000 | Petal Gas Storage, L.L.C. Hattiesburg Industrial Gas Sales, L.L.C.
C-2 | CP12-40-001 | Questar Pipeline Company.
C-3 | CP12-5-001 | Trunkline Gas Company, LLC. Sea Robin Pipeline Company, LLC.
C-4 | CP12-469-000 | Northern Natural Gas Company.
C-5 | CP05-91-000 | Calhoun LNG, L.P.
| CP05-380-000 | Point Comfort Pipeline Company, LLC.
| CP05-381-000
| CP05-382-000
C-6 | CP12-503-000 | CenterPoint Energy Gas Transmission Company, LLC.
|  | CenterPoint Energy-Mississippi River Transmission, LLC.
C-7 | CP12-351-000 | Cheniere Creole Trail Pipelines, L.P.
C-8 | OMITTED.
C-9 | RP13-128-001 | ConocoPhillips Company v. Texas Eastern Transmission, LP.

Issued February 14, 2013.
Kimberly D. Bose,
Secretary.

A free webcast of this event is available through www.ferc.gov. Anyone with Internet access who desires to view this event can do so by navigating to www.ferc.gov's Calendar of Events and locating this event in the Calendar. The event will contain a link to its webcast. The Capitol Connection provides technical support for the free webcasts. It also offers access to this event via television in the DC area and via phone bridge for a fee. If you have any questions, visit www.CapitolConnection.org or contact Danelle Springer or David Reininger at 703-993-3100.

Immediately following the conclusion of the Commission Meeting, a press briefing will be held in the Commission Meeting Room. Members of the public may view this briefing in the designated overflow room. This statement is intended to notify the public that the press briefings that follow Commission meetings may now be viewed remotely at Commission headquarters, but will not be telecast through the Capitol Connection service.

[FR Doc. 2013-03954 Filed 2-15-13; 4:15 pm]

BILLING CODE 6717-01-P